DEPARTMENT OF ENERGY

Federal Energy Regulatory Commission

Combined Notice of Filings #1

Take notice that the Commission received the following electric corporate filings:

Docket Numbers: EC24-44-000.

Applicants: Blackwater Solar, LLC, Wolfskin Solar, LLC, Bird Dog Solar, LLC, Hobnail Solar, LLC.

Description: Joint Application for Authorization Under Section 203 of the Federal Power Act of Blackwater Solar, LLC, et al.

Filed Date: 1/19/24.

Accession Number: 20240119-5284.

Comment Date: 5 p.m. ET 2/9/24.

Take notice that the Commission received the following exempt wholesale generator filings:

Docket Numbers: EG24-92-000.

Applicants: Wadley Solar, LLC.

Description: Notice of Self-Certification of Exempt Wholesale Generator Status of Wadley Solar, LLC.

Filed Date: 1/23/24.

Accession Number: 20240123-5054.

Comment Date: 5 p.m. ET 2/13/24.

Docket Numbers: EG24-93-000.

Applicants: AE-Telview ESS, LLC.

Description: AE-Telview ESS, LLC submits Notice of Self-Certification of Exempt Wholesale Generator Status.

Filed Date: 1/23/24.

Accession Number: 20240123-5114.

Comment Date: 5 p.m. ET 2/13/24.

Take notice that the Commission received the following Complaints and Compliance filings in EL Dockets:

Docket Numbers: EL24-54-000.

Applicants: Karen Schedler, Jeremy Helms, and Vote Solar.

Description: First Amended Petition for Enforcement Pursuant to (Section 210(H) of the Public Utility Regulatory Policies Act of 1978 or applicable Policy) of Solar United Neighbors.

Filed Date: 1/22/24.

Accession Number: 20240122-5099.

Comment Date: 5 p.m. ET 2/12/24.

Take notice that the Commission received the following electric rate filings:

Docket Numbers: ER10-1276-018; ER10-1287-017; ER10-1292-016; ER10-1303-016; ER10-1319-018; ER10-1353-018; ER18-1183-009; ER18-1184-009; ER23-1411-003.

Applicants: Newport Solar LLC, Delta Solar Power II, LLC, Delta Solar Power I, LLC, Dearborn Industrial Generation, L.L.C., CMS Generation Michigan Power, LLC, Genesee Power Station Limited Partnership, CMS Energy Resource Management Company, Grayling Generation Station Limited Partnership, Consumers Energy Company.

Description: Notice of Change in Status of Consumers Energy Company, et al.

Filed Date: 1/22/24.

Accession Number: 20240122-5262.

Comment Date: 5 p.m. ET 2/12/24.

Docket Numbers: ER12-2178-018; ER10-2178-043; ER10-2192-043; ER13-1536-027.

Applicants: Exelon Generation Company, LLC, Constellation Energy Commodities Group Maine, LLC, Constellation NewEnergy, Inc., AV Solar Ranch 1, LLC.

Description: Notice of Change in Status of AV Solar Ranch 1, LLC, et al.

Filed Date: 1/19/24.

Accession Number: 20240119-5283.

Comment Date: 5 p.m. ET 2/9/24.

Docket Numbers: ER17-1609-007.

Applicants: Carroll County Energy LLC.

Description: Notice of Change in Status of Carroll County Energy LLC.

Filed Date: 1/19/24.

Accession Number: 20240119-5282.

Comment Date: 5 p.m. ET 2/9/24.

Docket Numbers: ER22-2931-000; EL24-26-000.

Applicants: PJM Interconnection, L.L.C., PJM Interconnection, L.L.C.

Description: Answer of PJM Interconnection, L.L.C. to the December 20, 2023, Show Cause Order and Motion to Hold Proceedings in Abeyance and for Expedited Consideration and Shortened Comment Period.

Filed Date: 1/19/24.

Accession Number: 20240119-5185.

Comment Date: 5 p.m. ET 1/26/24.

Docket Numbers: ER23-1123-003.

Applicants: Portland General Electric Company.

Description: Compliance filing: Amend Compliance Filing Revising PGE OATT Attachment P JAN24 to be effective 4/16/2023.

Filed Date: 1/23/24.

Accession Number: 20240123-5068.

Comment Date: 5 p.m. ET 2/13/24.

Docket Numbers: ER23-1816-003.

Applicants: New York Independent System Operator, Inc., New York State Electric & Gas Corporation.

Description: Compliance filing: New York State Electric & Gas Corporation submits tariff filing per 35: NYSEG Compliance: Rate Schedule 19 Formula Rate Template to be effective 7/3/2023.

Filed Date: 1/23/24.

Accession Number: 20240123-5075.

Comment Date: 5 p.m. ET 2/13/24.

Docket Numbers: ER23-1817-003.

Applicants: New York Independent System Operator, Inc., New York State Electric & Gas Corporation, Rochester Gas and Electric Corporation.

Description: Compliance filing: Rochester Gas and Electric Corporation submits tariff filing per 35: RG&E Compliance: Rate Schedule 19 Formula Rate Template to be effective 7/3/2023.

Filed Date: 1/23/24.

Accession Number: 20240123-5069.

Comment Date: 5 p.m. ET 2/13/24.

Docket Numbers: ER23-2541-002.

Applicants: Nevada Cogeneration Associates #2.

Description: Tariff Amendment: Deficiency Ltr2 Resp to be effective 10/1/2023.

Filed Date: 1/22/24.

Accession Number: 20240122-5225.

Comment Date: 5 p.m. ET 2/12/24.

Docket Numbers: ER24-561-000.

Applicants: VESI 23 LLC.

Description: Supplement to December 6, 2023 VESI 23 LLC tariff filing.

Filed Date: 1/17/24.

Accession Number: 20240117-5196.

Comment Date: 5 p.m. ET 1/29/24.

Docket Numbers: ER24-973-000.

Applicants: Evergy Kansas Central, Inc.

Description: § 205(d) Rate Filing: Revisions to Rate Schedule FERC No. 327 to be effective 4/1/2023.

Filed Date: 1/23/24.

Accession Number: 20240123-5042.

Comment Date: 5 p.m. ET 2/13/24.

Docket Numbers: ER24-974-000.

Applicants: Midcontinent Independent System Operator, Inc.

Description: § 205(d) Rate Filing: 2024-01-23_SA 4083 Duke Energy-Emerald Green 1st Rev GIA (J1481) to be effective 1/12/2024.

Filed Date: 1/23/24.

Accession Number: 20240123-5043.

Comment Date: 5 p.m. ET 2/13/24.

Docket Numbers: ER24-975-000.

Applicants: MS Solar 6, LLC.

Description: Compliance filing: MS Solar 6, LLC Change in Status Filing to be effective 3/24/2024.

Filed Date: 1/23/24.

Accession Number: 20240123-5087.

Comment Date: 5 p.m. ET 2/13/24.

Docket Numbers: ER24-976-000.

Applicants: Prairie Creek Wind, LLC.

Description: Request for Limited Waiver of Prairie Creek Wind, LLC.

Filed Date: 1/18/24.

Accession Number: 20240118-5229.

Comment Date: 5 p.m. ET 2/8/24.

Docket Numbers: ER24-977-000.

Applicants: PJM Interconnection, L.L.C.

Description: § 205(d) Rate Filing: Amendment to WMPA, SA No. 6980; Queue No. AF2-060 (amend) to be effective 3/24/2024.

Filed Date: 1/23/24.

Accession Number: 20240123-5097.

Comment Date: 5 p.m. ET 2/13/24.

Take notice that the Commission received the following public utility holding company filings:

Docket Numbers: PH24-5-000.

Applicants: Axium Infrastructure Inc.

Description: Axium Infrastructure Inc. submits FERC 65-B Notice of Change in Fact to Waiver Notification.

Filed Date: 1/22/24.

Accession Number: 20240122-5264.

Comment Date: 5 p.m. ET 2/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 23, 2024.
Debbie-Anne A. Reese,
Acting Secretary.

[FR Doc. 2024-01735 Filed 1-29-24; 8:45 am]

BILLING CODE 6717-01-P